DEPARTMENT OF ENERGY

Office of Energy Efficiency and Renewable Energy

[Docket No. EERE-2013-BT-DET-0053]

Energy Efficiency Program for Industrial Equipment: Final Determination Classifying CSA Group as a Nationally Recognized Certification Program for Small Electric Motors

AGENCY: Office of Energy Efficiency and Renewable Energy, Department of Energy.

ACTION: Notice of final determination.

SUMMARY: This notice announces a final determination by the U.S. Department of Energy (DOE) classifying CSA Group (CSA) as a nationally recognized certification program under 10 CFR 431.447 and 431.448.

DATES: This final determination is effective May 1, 2014.

ADDRESSES: The docket for this rulemaking is available for review at www.regulations.gov, including Federal Register notices, public meeting attendee lists and transcripts, comments, and other supporting documents/materials. All documents in the docket are listed in the www.regulations.gov index. However, not all documents listed in the index may be publicly available, such as information that is exempt from public disclosure.

A link to the docket Web page can be found at: http://www.regulations.gov/#!docketDetail;D=EERE-2013-BT-DET-0053. This Web page contains a link to the docket for this final rule on the www.regulations.gov site. The www.regulations.gov Web page contains simple instructions on how to access all documents, including public comments, in the docket.

For further information on how to review the docket, contact Ms. Brenda Edwards at (202) 586-2945 or by email: Brenda.Edwards@ee.doe.gov.

FOR FURTHER INFORMATION CONTACT:

Mr. Lucas Adin, U.S. Department of Energy, Building Technologies Office, Mail Stop EE-5B, Forrestal Building, 1000 Independence Avenue SW., Washington, DC 20585-0121. Telephone: (202) 287-1317. Email: Lucas.Adin@ee.doe.gov.

Mr. Michael Kido, U.S. Department of Energy, Office of the General Counsel, Mail Stop GC-71, Forrestal Building, 1000 Independence Avenue SW., Washington, DC 20585-0103. Telephone: (202) 586-8145. Email: Michael.Kido@hq.doe.gov.

SUPPLEMENTARY INFORMATION:

I. Background and Authority

Part C of Title III of the Energy Policy and Conservation Act contains energy conservation requirements for, among other things, electric motors and small electric motors, including test procedures, energy efficiency standards, and compliance certification requirements. 42 U.S.C. 6311-6316.¹ Section 345(c) of EPCA directs the Secretary of Energy to require manufacturers of electric motors “to certify through an independent testing or certification program nationally recognized in the United States, that [each electric motor subject to EPCA efficiency standards] meets the applicable standard.” 42 U.S.C. 6316(c).

¹ For editorial reasons, upon codification in the U.S. Code, Part C was re-designated Part A-1.

Regulations to implement this statutory directive are codified in Title 10 of the Code of Federal Regulations Part 431 (10 CFR Part 431) at sections 431.36 (Compliance Certification), 431.20 (Department of Energy recognition of nationally recognized certification programs), and 431.21 (Procedures for recognition and withdrawal of recognition of accreditation bodies and certification programs). Sections 431.20 and 431.21 set forth the criteria and procedures for national recognition of an energy efficiency certification program for electric motors by DOE. With the support of a variety of interests, including industry and energy efficiency advocacy groups, DOE published a final rule on May 4, 2012, that established requirements for small electric motors that are essentially identical to the criteria and procedures for national recognition of an energy efficiency certification program for electric motors. See 77 FR 26608, 26629 (codifying parallel provisions for small electric motors at 10 CFR 431.447 and 431.448).

For a certification program to be classified by the DOE as being nationally recognized in the United States for the testing and certification of small electric motors, the organization operating the program must submit a petition to the Department requesting such classification, in accordance with sections 431.447 and 431.448. In sum, for the Department to grant such a petition, the certification program must: (1) Have satisfactory standards and procedures for conducting and administering a certification system, and for granting a certificate of conformity; (2) be independent of small electric motor manufacturers, importers, distributors, private labelers or vendors; (3) be qualified to operate a certification system in a highly competent manner; and (4) be expert in the test procedures and methodologies in IEEE Standard 112-2004 Test Methods A and B, IEEE Standard 114-2010, CSA Standard C390-10, and CSA C747 or similar procedures and methodologies for determining the energy efficiency of small electric motors, and have satisfactory criteria and procedures for selecting and sampling small electric motors for energy efficiency testing. 10 CFR 431.447(b).

Each petition requesting classification as a nationally recognized certification program must contain a narrative statement as to why the organization meets the above criteria, be accompanied by documentation that supports the narrative statement, and be signed by an authorized representative. 10 CFR 431.447(c).

II. Discussion

Pursuant to sections 431.447 and 431.448, on November 1, 2013, CSA submitted a “Petition for Recognition as a Nationally Recognized Certification Program for small electric motors” (“Petition” or “CSA Petition”). The Petition was accompanied by a cover letter from CSA to the Department, and the petition itself contained five separate sections—(1) Scope and Application, (2) Overview of CSA Group, (3) Certification and Testing—Quality Management System, (4) CSA Group's Motor Efficiency Verification Program—Product Directory, and (5) Examples of Other CSA Group Accreditations. In accordance with the requirements of section 431.448(b), DOE published CSA's petition in the Federal Register on December 30, 2013 and requested public comments. 78 FR 79423.

In response to the notice of petition, the National Electrical Manufacturers Association (NEMA), a trade association representing manufacturers of electrical products and equipment, including small electric motors, submitted comments to DOE in a letter dated January 24, 2013 (Comment response to the published Notice of Petition, No. 3). In these comments, NEMA generally stated its support for CSA's petition and recommended that DOE grant recognition to CSA. The comments also specifically explained that, in NEMA's view, (1) CSA has satisfactory standards and procedures for conducting and administering a certification system, including periodic follow-up to ensure basic model compliance; (2) CSA is independent of small motor manufacturers, importers, distributors, private labelers, or vendors; and (3) CSA is expert in the content and application of the test procedures and methodologies in IEEE Std 112-2004 Test Methods A and B, IEEE Std 114-2010, CSA 390-10, and CSA C747 or similar procedures and methodologies for determining the energy efficiency of small electric motors. NEMA added that CSA uses technically appropriate and statistically rigorous criteria and procedures for selecting and sampling small electric motors for energy efficiency testing.

As required by 10 CFR 431.448(d), DOE published on March 4, 2014 an interim notice of determination regarding CSA's petition. 79 FR 12189. Having received no comments on the interim determination, the Department hereby announces its final determination pursuant to 10 CFR 431.448(e) that CSA is classified as a nationally recognized certification program for small electric motors.

Issued in Washington, DC, on April 25, 2014.
Kathleen B. Hogan,
Deputy Assistant Secretary for Energy Efficiency, Energy Efficiency and Renewable Energy.

[FR Doc. 2014-09965 Filed 4-30-14; 8:45 am]

BILLING CODE 6450-01-P